DEPARTMENT OF TRANSPORTATION

Research and Special Programs Administration

[Docket RSPA-98-4957; Notice 18]

Notice of New Information Collection

AGENCY: Research and Special Programs Administration, DOT.

ACTION: Request for OMB approval and public comments.

SUMMARY: As required by the Paperwork Reduction Act of 1995, the Research and Special Programs Administration's (RSPA) published its intention to create a new information collection in support of the Office of Pipeline Safety (OPS) Damage Prevention Grant Program (October 22, 1999, 64 FR 57182). No comments were received. The purpose of this notice is to allow the public an additional 30 days from the date of this notice to send in their comments.

Congress authorized the Department of Transportation to create a Damage Prevention Grant Program to assist the states. The Department is requiring that states requesting grants must provide a written proposal to RSPA for approval.

DATES: Comments on this notice must be received February 22, 2000 to be assured of consideration.

ADDRESSES: Comments should identify the docket number of this notice, RSPA-98-4957, and be mailed directly to Office of Regulatory Affairs, Office of Management and Budget, ATTN: RSPA Desk Officer, 726 Jackson Place, NW, Washington, DC 20503.

FOR FURTHER INFORMATION CONTACT: Marvin Fell, Office of Pipeline Safety, Research and Special Programs Administration, Department of Transportation, 400 Seventh Street, SW, Washington, DC 20590, (202) 366-6205 or by electronic mail at marvin.fell.dot.gov.

SUPPLEMENTARY INFORMATION: Title: Damage Prevention Grant Program

Type of Request: New

Abstract: Third party damage is a leading cause of pipeline accidents. Congress has allocated funds to provide states grants to develop one-call notification programs which will reduce the amount of third party damage. States will be required to submit proposals for these grants that will be evaluated by RSPA.

Estimate of Burden: The average burden hours per response is 40 hours.

Respondents: States.

Estimated Number of Respondents: 30 the first year and 40 the second year.

Estimated Number of Responses per Respondent: 1 per year.

Estimated Total Annual Burden on Respondents: 1200-1600 hours. Copies of this information collection can be reviewed at the Dockets Facility, Plaza 401, U.S. Department of Transportation, 400 Seventh Street, SW, Washington, DC 20590 from 9 A.M. to 5 P.M., Monday through Friday except Federal holidays. They also can be viewed over the Internet at http://dms.dot.gov

Comments are invited on: (a) The need for the proposed collection of information for the proper performance of the functions of the agency, including whether the information will have practical utility; (b) The accuracy of the agency's estimate of the burden of the proposed collection of information including the validity of the methodology and assumptions used; (c) Ways to enhance the quality, utility and clarity of the information to be collected; and (d) Ways to minimize the burden of the collection of information on those who are to respond, including the use of appropriate automated, electronic, mechanical, or other technological collection techniques.

Issued in Washington, DC on January 13, 2000.
Richard B. Felder,
Associate Administrator for Pipeline Safety.

[FR Doc. 00-1353 Filed 1-19-00; 8:45 am]

BILLIING CODE 4910-60-P